DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Barbara Dicely, dba Leopards, Etc., Occidental, CA, PRT-033596.

The applicant requests a permit to import a male cheetah cub (Acinonyx jubatus) from DeWildt Cheetah and Wildlife Centre, South Africa, for the purpose of enhancement of the survival of the species through conservation education.

Applicant: Thomas W. Avara, II Houston, TX PRT-034115.

The applicant requests a permit to import the sport-hunted trophy of one male bontebok (Damaliscus pygargus dorcas) culled from a captive herd maintained under the management program of the Republic of South Africa, for the purpose of enhancement of the survival of the species.

Applicant: Dannine Avara, Houston, TX PRT-034122.

The applicant requests a permit to import the sport-hunted trophy of one male bontebok (Damaliscus pygargus dorcas) culled from a captive herd maintained under the management program of the Republic of South Africa, for the purpose of enhancement of the survival of the species.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: Gloria Erickson, Holdrege, NE, PRT-033948.

The applicant requests a permit to import a polar bear (Ursus maritimus) sport-hunted from the Lancaster Sound, polar bear population, Canada for personal use.

Applicant: Robert Miller, North East, PA, PRT-034022.

The applicant requests a permit to import a polar bear (Ursus maritimus) sport-hunted from the McClintock Channel, polar bear population, Canada for personal use.

Applicant: Chicago Zoological Society, Brookfield, IL, PRT-032510.

The applicant requests a permit to import 1.0 live captive born polar bear (Ursus maritimus) from the Jardin Zoo, Quebec, Canada, for the purpose of public display and conservation education.

Written data or comments should be submitted to the Director, U.S. Fish and Wildlife Service, Division of Management Authority, 4401 North Fairfax Drive, Room 700, Arlington, Virginia 22203 and must be received by the Director within 30 days of the date of this publication.

The U.S. Fish and Wildlife has information collection approval from OMB through February 28, 2001. OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: September 28, 2000.
Charlie Chandler,
Chief, Branch of Permits, Division of Management Authority.

[FR Doc. 00-25444 Filed 10-3-00; 8:45 am]

BILLING CODE 4310-55-U